DEPARTMENT OF ENERGY

Federal Energy Regulatory Commission

[Docket No. PF06-14-000; COTP Savannah-06-04]

Southern LNG, Inc. and Elba Express Company, L.L.C.; Notice of Intent To Prepare an Environmental Impact Statement and U.S. Coast Guard Letter of Recommendation for the Proposed Elba III Project, Request for Comments on Environmental Issues, and Notice of Public Comment Meetings

March 24, 2006.

The Federal Energy Regulatory Commission (FERC or Commission) and the U.S. Department of Homeland Security, U.S. Coast Guard (Coast Guard) are in the process of evaluating the Elba III Project planned by Southern LNG, Inc. and Elba Express Company, L.L.C., both wholly-owned subsidiaries of Southern Natural Gas Company (SNG). The project would consist of an expansion of SNG's existing onshore Elba Island Liquefied Natural Gas (LNG) Import Terminal on the Savannah River in Georgia, and construction and operation of onshore natural gas pipeline and compressor facilities in various counties in Georgia and South Carolina.

As a part of this evaluation, the FERC staff will prepare an environmental impact statement (EIS) that will address the environmental impacts of the project. The Commission will use the EIS in its decision-making process to determine whether or not to authorize the project. The Coast Guard will assess the safety and security of the import terminal expansion portion of the project and issue a Letter of Recommendation. As described below, the FERC and the Coast Guard will hold public comment meetings to allow the public to provide input to these assessments.

This Notice of Intent (Notice) explains the scoping process that will be used to gather information on the project from the public and interested agencies, and summarizes the Coast Guard's process. Your input will help identify the issues that need to be evaluated in the EIS and in the Coast Guard's safety and security assessment. Please note that the scoping period for the project will close on April 24, 2006.

The FERC will be the lead federal agency in the preparation of an EIS that will satisfy the requirements of the National Environmental Policy Act of 1969 (NEPA). Two other federal agencies have already agreed to serve as cooperating agencies during preparation of the EIS: the Coast Guard and the U.S. Army Corps of Engineers (COE). The COE (Savannah and Charleston Districts) has agreed to participate as a cooperating agency in the preparation of this EIS to satisfy its NEPA responsibilities under section 404 of the Clean Water Act and section 10 of the Rivers and Harbors Act. In addition, we have invited the U.S. Fish & Wildlife Service; the U.S. Department of Commerce, National Oceanic and Atmospheric Administration, National Marine Fisheries Service; the Georgia Department of Natural Resources; and the South Carolina Department of Natural Resources to serve as cooperating agencies in the preparation of this EIS.

With this Notice, we ¹ are asking other Federal, state, and local agencies with jurisdiction and/or special expertise with respect to environmental issues in the project area to formally cooperate with us in the preparation of this EIS. These agencies may choose to participate once they have evaluated the planned project relative to their responsibilities. Agencies that would like to request cooperating agency status should follow the instructions for filing comments described in the Public Participation section of this Notice.

We encourage government representatives to notify their constituents of this planned project and encourage them to comment on their areas of concern. Comments on the project may be submitted in written form or verbally. Instructions for the submission of written comments are provided in the Public Participation section of this Notice. In lieu of sending written comments, we invite you to attend the public scoping meetings that we have scheduled as follows:

¹ “We,” “us,” and “our” refer to the environmental staff of the FERC's Office of Energy Projects.

Schedule and Locations for Public Meetings
Date and time | Location
Monday, April 10, 2006, at 7:00 p.m. | Comfort Inn & Suites Conference Center (Southburg Chateau Room), 301 Governor Truetlen Drive, Pooler, GA 31322; Phone: (912) 748-6464.
Tuesday, April 11, 2006, at 7:00 p.m. | Sylvania Recreation Building, 605 Millen Highway, Sylvania, GA 30467; Phone: (912) 863-2388.
Wednesday, April 12, 2006 at 7:00 p.m. | Thomson High School Cafeteria, 1160 White Oak Road, Thomson, GA 30824; Phone: (706) 986-4200.
Thursday, April 13, 2006 at 7:00 p.m. | Washington-Wilkes High School Cafeteria, 304 Gordon Street, Washington, GA 30673; Phone: (706) 678-2426.

The scoping meeting in Pooler, Georgia, will be combined with the Coast Guard's public meeting regarding the safety and security of the import terminal expansion. At that meeting, the Coast Guard will discuss the process for assessing the suitability of the Savannah River to accommodate increased LNG carrier traffic, and the comprehensive review of the facility's operations manual, emergency response plan, and security plan. The Coast Guard's Letter of Recommendation process is further described below.

This Notice is being sent to Federal, state, and local government agencies; elected officials; environmental and public interest groups; Native American tribes; commentors and other interested parties; and local libraries and newspapers. This includes all landowners who are potential right-of-way grantors, whose property may be used temporarily for project purposes, or who own homes within distances defined in the Commission's regulations of certain aboveground facilities. We encourage government representatives to notify their constituents of this planned project and encourage them to comment on their areas of concern. To ensure that your comments are considered, please follow the instructions in the Public Participation section below.

If you are a landowner receiving this Notice, you may be contacted by an SNG representative about the acquisition of an easement to construct, operate, and maintain the proposed pipeline facilities. The pipeline company would seek to negotiate a mutually acceptable agreement. However, if the pipeline portion of the project is approved by the FERC, that approval conveys with it the right of eminent domain to secure easements for the facilities. Therefore, if easement negotiations fail to produce an agreement, the pipeline company could initiate condemnation proceedings in accordance with state law.

A fact sheet prepared by the FERC entitled “An Interstate Natural Gas Facility on My Land? What Do I Need to Know?” is available for viewing on the FERC Internet Web site (http://www.ferc.gov. This fact sheet addresses a number of typically asked questions, including the use of eminent domain for pipeline facilities and how to participate in the FERC's proceedings.

Summary of the Planned Project

Southern LNG, Inc. plans to construct and operate an expansion of its existing Elba Island LNG Import Terminal on the Savannah River in Georgia (Elba Terminal Expansion), and Elba Express Company, L.L.C. plans to construct and operate a natural gas transmission pipeline in Georgia and South Carolina (Elba Express Pipeline). The general location of the project is shown in appendix 1.

Elba Terminal Expansion

Southern LNG Inc. plans to construct and operate an expansion to its existing LNG import terminal on Elba Island near Savannah, in Chatham County, Georgia. The expansion would (a) more than double the site's LNG storage capacity by adding 400,000 cubic meters (m³) of new storage; (b) substantially increase the facility's existing vaporization capacity; (c) upgrade the terminal's send-out meter station to increase the natural gas send-out capacity of the facility by an additional 900 million cubic feet per day (MMcfd); and (d) modify the terminal's LNG tanker berthing and unloading facilities to accommodate larger tankers and provide faster and simultaneous unloading of two LNG tankers. All of the planned facilities would be located entirely within the existing 190-acre facility site on Elba Island.

The LNG terminal expansion would be constructed in two phases, A and B. Phase A would be completed as early as January 2010 and would include the following facilities:

a. One new 200,000 m³ LNG storage tank, one associated boil-off gas condenser, and three boil-off gas compressors;

b. Three submerged combustion vaporizers, each with a peak capacity of 180 MMcfd, providing an incremental peak send-out capacity of 540 MMcfd (or a total peak send-out capacity of 1,755 MMcfd for the full facility at the completion of phase A); and

c. Modifications to the unloading docks to accommodate new, larger LNG tankers and to allow simultaneous unloading of two LNG tankers. The modifications to the dual berthing slip include:

• Adding four mooring dolphins (two for each berth);

• Dredging approximately 20,500 cubic yards of material from the slope at the back of the existing slip (and disposing of dredged material into the existing spoil disposal area adjacent to the terminal); and

• Installing a sheetpile bulkhead at the back of the slip. These modifications would allow the slip to accommodate larger LNG tankers with an approximate overall length of 345 meters (m) (compared to the current 288 m), breadth of 55 m (compared to the current 49 m), design laden draft of 12.0 m (compared to the current 11.7 m), and displacement of 177,000 metric tons (compared to the current 128,000 metric tons).

Phase B would be completed no later than December 2012 and would include the following facilities:

a. One new 200,000 m³ LNG storage tank; and

b. Three submerged combustion vaporizers (two for service and one spare), each with a peak capacity of 180 MMcfd, providing an incremental peak send-out capacity of 360 MMcfd (or a total peak send-out capacity of 2,115 MMcfd for the full facility at the completion of phase B).

Each of the two phases would include all necessary ancillary equipment including related pumps, piping, controls and appurtenances, and associated systems (electrical, mechanical, civil, instrumentation, hazard detection, and fire protection) and buildings necessary to accommodate the associated tanks and vaporizer units. Southern LNG estimates that following the expansion, the terminal would receive LNG shipments about every 5 to 10 days, depending on natural gas demand and LNG carrier size.

Elba Express Pipeline

Elba Express Company, L.L.C. plans to construct and operate about 188 miles of new natural gas pipeline and appurtenant facilities in Georgia and South Carolina. The pipeline would be constructed in two phases, extending between an interconnection with SNG near Port Wentworth, Chatham County, Georgia on the southern end and an interconnection with Transcontinental Gas Pipe Line Corporation (Transco) in Anderson County, South Carolina on the northern end.

The first phase is proposed to be placed in service as early as January 2010 with a design capacity of 945 MMcfd, and would consist of:

a. The “Southern Segment,” which includes about 104.6 miles of 42-inch-diameter pipeline extending from Port Wentworth to the existing SNG Wrens Compressor Station (Wrens) in Jefferson County, Georgia (to be collocated with the existing SNG pipelines); and

b. The “Northern Segment,” which includes about 83.8 miles of 36-inch-diameter pipeline extending from Wrens to interconnects with Transco in Hart County, Georgia, and Anderson County, South Carolina.

The second phase would also involve construction and operation of a new compressor station of about 1,000 horsepower near Woodcliff, Screven County, Georgia, where SNG currently operates other aboveground facilities. The compressor station would increase the pipeline design capacity by 230 MMcfd to a total of 1,175 MMcfd, and is proposed to be placed in service no later than December 2012 (corresponding to the in-service date for Phase B of the Elba terminal expansion).

Land Requirements for Construction

Construction workspace for the Elba Terminal Expansion is undetermined at this time, but would be located entirely within the existing 190-acre facility site. SNG estimates that construction of the Elba Express Pipeline facilities would require about 1,600 acres of land, not including warehouses, staging areas, pipe storage yards, contractor yards, and access roads. The typical construction right-of-way for the Southern Segment would be 125 feet wide (for the 42-inch-diamter pipeline) and would overlap the existing SNG rights-of-way by varying widths based upon the existing right-of-way configuration. The typical construction right-of-way for the Northern Segment would be 110 feet wide (for the 36-inch-diameter pipeline) and, as currently planned, would not be located adjacent to existing rights-of-way. Temporary extra workspace would also be required outside the typical construction right-of-way at certain feature crossings (e.g., roads, railroads, waterbodies) and in areas requiring extensive topsoil segregation or special construction techniques.

The construction and operation workspace at the compressor station would be on a 15-acre site and used for certain miscellaneous facilities (i.e., metering, mainline valves, pig launching and receiving equipment). This site would be primarily within, or adjacent to, the proposed right-of-way.

Following construction, new permanent right-of-way would be required for the pipeline, compressor station, and miscellaneous facilities. Temporary workspace that is used outside existing rights-of-way would be restored and allowed to revert to its current use.

The EIS Process

NEPA requires the FERC to take into account the environmental impacts that could result from an action when it considers whether an LNG import terminal expansion or an interstate natural gas pipeline should be approved. The FERC will use the EIS to consider the environmental impacts that could result if it issues project authorizations to SNG under sections 3 and 7 of the Natural Gas Act. NEPA also requires us to discover and address concerns the public may have about proposals. This process is referred to as “scoping.” The main goal of the scoping process is to focus the analysis in the EIS on the important environmental issues and reasonable alternatives. With this Notice, we are requesting public comments on the scope of the issues to be addressed in the EIS. All comments received will be considered during preparation of the EIS.

In the EIS we will discuss impacts that could occur as a result of the construction, operation, maintenance, and abandonment of the project. We will also evaluate possible alternatives to the planned project or portions of the project, and make recommendations on how to lessen or avoid impacts on various resource areas. The EIS will be used by the Commission in its decision-making process to determine whether the project is consistent with the public interest. If it finds such, it will issue an order authorizing the project.

Our independent analysis of the issues will be included in a draft EIS. The draft EIS will be mailed to Federal, state, and local government agencies; elected officials; environmental and public interest groups; Native American tribes; commentors; other interested parties; local libraries and newspapers; and the FERC's official service list for this proceeding. A 45-day comment period will be allotted for review of the draft EIS. We will consider all timely comments on the draft EIS and revise the document, as necessary, before issuing a final EIS.

Although no formal application has been filed with the FERC, we have already initiated our NEPA review under the Commission's Pre-Filing Process. The purpose of the Pre-Filing Process is to encourage early involvement of interested stakeholders and to identify and resolve issues before an application is filed with the FERC. The Coast Guard, which will be responsible for reviewing the safety and security aspects of the planned terminal expansion and regulating safety and security if the project is approved, has initiated its review as well.

Coast Guard Letter of Recommendation Process

In accordance with the requirements of Title 33 of the Code of Federal Regulations, part 127.009 (33 CFR 127.009), the Coast Guard Captain of the Port (COTP) Savannah is preparing a Letter of Recommendation as to the suitability of the Savannah River for a potential increase in LNG marine traffic. The Letter of Recommendation is in response to a Letter of Intent submitted by Southern LNG, Inc. to expand its LNG import terminal facility on Elba Island near Savannah, Georgia. The COTP Savannah is soliciting written comments and related material, and will hold a public meeting in conjunction with the FERC seeking comments, pertaining specifically to maritime safety and security aspects of the proposed LNG facility expansion. In preparation for issuance of a Letter of Recommendation and the completion of certain other regulatory mandates, the COTP Savannah will consider comments received from the public as input into a formalized risk assessment process. This process will assess the safety and security aspects of the facility, adjacent port areas, and navigable waterways.

Background and Purpose

In accordance with the requirements of 33 CFR 127.007, Southern LNG, Inc. submitted a Letter of Intent on January 12, 2006, to expand its LNG import facility on Elba Island near Savannah, Georgia. This portion of the overall project is referred to as the Elba III Terminal Expansion Project.

Southern LNG, Inc.'s Elba Island facility is designed for marine receipt of LNG for storage, re-gasification, and delivery into the interstate natural gas pipeline network. The proposed expansion is described in the Summary of Planned Project—LNG Terminal Expansion section of this Notice. The Coast Guard exercises regulatory authority over LNG facilities which affect the safety and security of port areas and navigable waterways under Executive Order 10173, the Magnuson Act (50 U.S.C. 191), the Port and Waterways Safety Act of 1972, as amended (33 U.S.C. 1221 et seq.) and the Maritime Transportation Security Act of 2002 (46 U.S.C. 701). The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in 33 CFR part 105, and recommendation for siting as it pertains to the management of vessel traffic in and around the LNG facility.

Upon receipt of a Letter of Intent from an owner or operator intending to build or expand an LNG facility, the Coast Guard COTP conducts an analysis that results in a Letter of Recommendation issued to the owner or operator and to the state and local governments having jurisdiction, addressing the suitability of the waterway to accommodate an increase of LNG carrier traffic. Specifically, the Letter of Recommendation addresses the suitability of the waterway based on:

• The physical location and layout of the facility and its berthing and mooring arrangements;

• The LNG vessels characteristics and the frequency of LNG shipments to the facility;

• Commercial, industrial, environmentally sensitive, and residential areas in and adjacent to the waterway used by LNG vessels en route to the facility;

• Density and character of marine traffic on the waterway;

• Bridge or other manmade obstructions in the waterway;

• Depth of water;

• Tidal range;

• Natural hazards, including rocks and sandbars;

• Underwater pipelines and cables; and

• Distance of berthed LNG vessels from the channel, and the width of the channel.

In addition, the Coast Guard will review and approve the updated facility operations manual and emergency response plan (33 CFR 127.019), as well as the updated facility security plan (33 CFR 105.410). The Coast Guard will also provide input to other Federal, state, and local government agencies reviewing the project. Under an interagency agreement, the Coast Guard will provide input to FERC—the lead Federal agency for authorizing the siting and construction of onshore LNG facilities—on the maritime safety and security aspects of the Elba III Terminal Expansion Project. To help FERC make sure that the EIS covers the Coast Guard's Letter of Recommendation and other actions under this proposal, the Coast Guard will serve as a cooperating agency.

In order to complete a thorough analysis and fulfill the regulatory mandates cited above, the COTP Savannah will be conducting a formal risk assessment and evaluation of various safety and security aspects associated with the Elba III Terminal Expansion Project. This assessment will be accomplished through workshops focusing on waterways safety, port security, and consequence management, with involvement from a broad cross-section of government and port stakeholders with expertise in each of the respective areas. The workshops will be by invitation only, but comments received during the public comment period will be considered as input into the risk assessment process.

Currently Identified Environmental Issues

We have already identified issues that we think deserve attention based on attendance at SNG's Open House meetings, verbal comments and comment letters received thus far, a preliminary review of the project area, and information provided by SNG. This preliminary list of issues will be revised based on your comments and our continuing analyses.

• Conversion of the planned pipeline right-of-way from private/commercial and forested land uses to pipeline easement, and associated economic impact;

• Potential impacts on watersheds and associated wetlands, tributaries and streams, and sensitive aquatic and terrestrial wildlife;

• Potential biological impacts from ballast water intake by the LNG carriers;

• Potential impacts on federally listed threatened and endangered species;

• Potential impacts on essential fish habitat;

• Consistency with Georgia Coastal Zone Management program;

• Potential impacts on air quality resulting from operation of the pipeline compressor station, expanded LNG terminal, and increased LNG carrier traffic;

• Potential impacts of increased LNG carrier traffic and associated support vessels on other river users;

• Potential impacts on cultural resources;

• Risks associated with the transport and storage of LNG;

• Alternative locations for the LNG terminal expansion and pipeline route alignment, respectively; and

• Assessment of the cumulative effects of the project when combined with other past, present, or reasonably foreseeable future actions in the project area.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. In addition, the Coast Guard encourages you to submit written comments and related material pertaining specifically to marine safety and security aspects associated with the proposed LNG facility expansion. To maintain a single administrative record and public comment repository, all original written comments and related material associated with the Coast Guard's Letter of Recommendation process must be submitted to the FERC. The more specific your comments, the more useful they will be. To ensure that your comments are timely and properly recorded, please follow these instructions:

• Send an original and two copies of your letter to: Magalie R. Salas, Secretary, Federal Energy Regulatory Commission, 888 First Street, NE., Room 1A, Washington, DC 20426;

• Label one copy of your comments for the attention of Gas Branch 1, DG2E;

• Reference Docket No. PF06-14-000 on the original and both copies; and

• Mail your comments so that they will be received in Washington, DC on or before April 24, 2006.

If you submit comments by mail, submit them in an unbound format, no larger than 8.5 by 11 inches, suitable for copying and electronic filing. However, the Commission strongly encourages electronic filing of any comments in response to this Notice. For information on electronically filing comments, please see the instructions on the Commission's Web site at http://www.ferc.gov under the “e-Filing” link and the link to the User's Guide as well as information in 18 CFR 385.2001(a)(1)(iii). Before you can file comments you will need to create a free account, which can be accomplished online.

Comment letters received by the FERC regarding the Coast Guard's safety and security assessment and Letter of Recommendation will be forwarded to the Coast Guard. Although original written comments must be submitted to the FERC, you may submit an identical copy of your written comments to: Commanding Officer, U.S. Coast Guard Marine Safety Unit Savannah, 100 W. Oglethorpe, Savannah, GA 31401.

Marine Safety Unit Savannah maintains a file for this Notice. Comments and material received will become part of this file and will be available for inspection and copying at Marine Safety Unit Savannah between 7:30 a.m. and 4 p.m., Monday through Friday, except federal holidays. The Coast Guard's comment period will run concurrently with the FERC's 30-day public scoping period.

The public scoping meetings (details provided above) are designed to provide another opportunity to offer comments on the proposed project. Interested groups and individuals are encouraged to attend the meetings and to present comments on the environmental issues that they believe should be addressed in the EIS. A transcript of each meeting will be generated so that your comments will be accurately recorded.

To provide the public an opportunity to comment on the planned LNG facility expansion, the Coast Guard will hold a public meeting in conjunction with the FERC staff in Pooler, Georgia, on April 10, 2006. Organizations and members of the public may provide oral statements regarding the suitability of the Savannah River for an increase in LNG vessel traffic at the Pooler public meeting. In the interest of time and use of the public meeting facility, oral statements may be limited to five minutes (depending on the number of speakers). Persons wishing to make oral statements should notify the FERC when signing in at the meeting. Written comments may be submitted at the meeting or to the FERC as discussed above.

When SNG formally files its application to site, construct, and operate its proposed project, the Commission will publish a Notice of Application in the Federal Register. The applicant will provide a copy of this notice to affected landowners within 3 days of its issuance. The Notice of Application will establish a deadline for interested parties to intervene in the proceeding. Because the Commission's Pre-Filing Process occurs before an application to begin a proceeding is officially filed, petitions to intervene during this process are premature and will not be accepted by the Commission.

Environmental Mailing List and EIS Format

If you do not wish to remain on the environmental mailing list to receive notices or the EIS for this planned project, please return the mailer attached as appendix 2.

To reduce printing and mailing costs, the draft and final EIS will be issued in both compact disk (CD-ROM) and hard copy formats. The FERC strongly encourages the use of CD-ROM format in its publication of large documents. Thus, all recipients will automatically receive the EIS on CD-ROM. If you wish to receive a paper copy of the draft EIS instead of a CD-ROM, you must indicate that choice on the return mailer.

Additional Information

Additional information about the project is available from the Commission's Office of External Affairs, at 1-866-208-FERC (3372) or on the FERC Internet Web site (http://www.ferc.gov) using the “eLibrary” link. Click on the eLibrary link, select “General Search” and enter the project docket number excluding the last three digits (i.e., PF06-14) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

If you have any questions about the Coast Guard's safety and security assessment or its Letter of Recommendation process, contact Lieutenant Andy Meyers or Charlie Johnson at Marine Safety Unit Savannah, (912) 652-4353 or (912) 652-4180 (fax).

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, SNG has established an Internet Web site for this project at http://www.elba3.com. The Web site includes a description of the project, additional maps of the project area, and answers to frequently asked questions. You can also request additional information or provide comments directly to SNG at (800) 793-4514.

Magalie R. Salas,
Secretary.

[FR Doc. E6-4654 Filed 3-29-06; 8:45 am]

BILLING CODE 6717-01-P